DEPARTMENT OF THE INTERIOR

Bureau of Indian Affairs

[167 A2100DD/AAKC001030/A0A501010.999900]

Renewal of Agency Information Collection for Indian Self-Determination and Education Assistance Contracts

AGENCIES: Bureau of Indian Affairs, DOI.

ACTION: Notice of request for comments.

SUMMARY: In compliance with the Paperwork Reduction Act of 1995, the Bureau of Indian Affairs (BIA) is seeking comments on the renewal of Office of Management and Budget (OMB) approval for the collection of information for Indian Self-Determination and Education Assistance Contracts, authorized by OMB Control Number 1076-0136. This information collection expires July 31, 2016.

DATES: Submit comments on or before July 8, 2016.

ADDRESSES: You may submit comments on this information collection activities to Ms. Sunshine Jordan, Acting Division Chief, Office of Indian Services—Division of Self-Determination, 1849 C Street NW., MS 4513-MIB, Washington, DC 20240, telephone: (202) 513-7616, email: Sunshine.Jordan@bia.gov.

FOR FURTHER INFORMATION CONTACT: Ms. Sunshine Jordan, email: Sunshine.Jordan@bia.gov.

SUPPLEMENTARY INFORMATION:

I. Abstract

Representatives of the BIA seeks renewal of the approval for information collections conducted under their joint rule, 25 CFR part 900, implementing the Indian Self-Determination and Education Assistance Act (ISDEAA), as amended (25 U.S.C. 450 et seq.). The Act requires a joint rule at 25 CFR part 900 to govern how contracts are awarded to Indian Tribes, thereby avoiding the unnecessary burden or confusion associated with two sets of rules and information collection requirements. See 25 U.S.C. 450k(a)(2)(A)(ii). The joint rule was developed through negotiated rulemaking with Tribes in 1996 and governs, among other things, what must be included in a Tribe's initial ISDEAA contract proposal to the BIA.

II. Request for Comments

The BIA requests your comments on this collection concerning: (a) The necessity of this information collection for the proper performance of the functions of the agency, including whether the information will have practical utility; (b) the accuracy of the agency's estimate of the burden (hours and cost) of the collection of information, including the validity of the methodology and assumptions used; (c) ways we could enhance the quality, utility, and clarity of the information to be collected; and (d) ways we could minimize the burden of the collection of the information on the respondents.

Please note that an agency may not conduct or sponsor, and an individual need not respond to, a collection of information unless it has a valid OMB Control Number.

It is BIA's policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0136.

Title: Indian Self-Determination and Education Assistance Contracts, 25 CFR part 900.

Brief Description of Collection: An Indian Tribe or Tribal organization is required to submit this information each time that it proposes to contract with BIA under the ISDEAA. Each response may vary in its length. In addition, each subpart of 25 CFR part 900 concerns different parts of the contracting process. For example, subpart C relates to provisions of the contents for the initial contract proposal. The respondents do not incur the burden associated with subpart C when contracts are renewed. Subpart F describes minimum standards for management systems used by Indian Tribes or Tribal organizations under these contracts. Subpart G addresses the negotiability of all reporting and data requirements in the contracts.

Type of Review: Extension without change of currently approved collection.

Respondents: Federally recognized Indian Tribes and Tribal organizations.

Number of Respondents: 550.

Estimated Number of Responses: 5,267.

Estimated Time per Response: Varies from 10 to 50 hours, with an average of 45 hours per response.

Frequency of Response: Each time programs are contracted from the BIA under the ISDEAA.

Obligation To Respond: Response required to obtain or retain a benefit.

Estimated Total Annual Hour Burden: 219,792 hours.

Estimated Total Annual Non-Hour Cost: $0.

Elizabeth K. Appel,
Director, Office of Regulatory Affairs and Collaborative Action—Indian Affairs.

[FR Doc. 2016-10788 Filed 5-6-16; 8:45 am]

BILLING CODE 4337-15-P